DEPARTMENT OF COMMERCE

National Oceanic and Atmospheric Administration

[RTID 0648-XE751]

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet on March 27, 2025, and on March 31, 2025, through April 7, 2025.

DATES: The Council's Executive/Finance Committee will meet in closed session on Thursday March 27, 2025, from 1 p.m. to 5 p.m. The Council's Scientific and Statistical Committee (SSC) will begin at 8 a.m. on Monday, March 31, 2025, and continue through Tuesday, April 1, 2025. The Council's Advisory Panel (AP) will begin at 8 a.m. Monday, March 31, 2025, and continue through Friday, April 4, 2025. The Council will begin at 8 a.m. on Thursday, April 3, 2025, and continue through Monday, April 7, 2025. All times listed are Alaska Time.

ADDRESSES: The meetings will be a virtual conference. Join the meetings online through the links at https://www.npfmc.org/upcoming-council-meetings.

Council address: North Pacific Fishery Management Council, 1007 W 3rd Ave., Anchorage, AK 99501-2252; telephone: (907) 271-2809. Instructions for attending the meeting via video conference are given under connection information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Thursday, March 27, 2025

The Executive/Finance Committee will meet in closed session to discuss internal administrative matters.

Monday, March 31, 2025 Through Tuesday, April 1, 2025

The SSC agenda will include the following issues:

1. MRA Adjustments—Preliminary Review of MRA Adjustments Analysis

2. Survey Modernization and AFSC Report—Review and provide recommendations on AFSC survey modernization efforts, and survey prioritization

The agenda is subject to change, and the latest version will be posted at https://meetings.npfmc.org/Meeting/Details/3081 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Monday, March 31, 2025, Through Friday, April 4, 2025

The Advisory Panel agenda will include the following issues:

1. Area 4 Vessel Use Caps—Review Final Action Analysis

2. Small Sablefish Release—Review Final Action Analysis

3. MRA Adjustment—Review Preliminary Analysis

4. Programmatic Evaluation—Review Discussion Paper

5. NMFS Annual Cost Recovery—Report and review discussion paper

6. GOA Tanner Crab Protections—Review discussion paper

7. Central Rockfish Program Review—Review Report

8. Staff Tasking

Thursday, April 3, 2025, Through Monday, April 7, 2025

The Council agenda will include the following issues. The Council may take appropriate action on any of the issues identified.

1. B Reports (Executive Director, NMFS Management, NOAA General Counsel (GC), Alaska Fishery Science Center (AFSC), Alaska Department of Fish and Game (ADF&G), United States Coast Guard (USCG), United States Fish and Wildlife Service (USFWS), International Pacific Halibut Commission (IPHC), National Institute for Occupational Safety & Health (NIOSH) report, Cooperative reports, Advisory Panel, SSC report)

2. Area 4 Vessel Use Caps—Review Final Action Analysis

3. Small Sablefish Release—Review Final Action Analysis

4. MRA Adjustment—Review Preliminary Analysis

5. NMFS Annual Cost Recovery—Report and review discussion paper

6. GOA Tanner Crab Protections—Review discussion paper

7. Central Rockfish Program—Review Report

8. Staff Tasking

Connection Information

You can attend the meeting online using a computer, tablet, or smart phone; or by phone only. Connection information will be posted online at: https://www.npfmc.org/upcoming-council-meetings. For technical support, please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The written comment period is open from March 7, 2025 to March 28, 2025, and closes at 12 p.m., Alaska Time on Friday, March 28, 2025.

Authority: 16 U.S.C. 1801 et seq.

Dated: March 7, 2025.
Rey Israel Marquez,
Acting Deputy Director, Office of Sustainable Fisheries, National Marine Fisheries Service.

[FR Doc. 2025-03951 Filed 3-12-25; 8:45 am]

BILLING CODE 3510-22-P